DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 20, 2008.

Interested persons are invited to submit written comments regarding the subject matter of the investigations to the Director, Division of Trade Adjustment Assistance, at the address shown below, not later than October 20, 2008.

The petitions filed in this case are available for inspection at the Office of the Director, Division of Trade Adjustment Assistance, Employment and Training Administration, U.S. Department of Labor, Room C-5311, 200 Constitution Avenue, NW., Washington, DC 20210.

Signed at Washington, DC, this 1st day of October 2008.
Erin Fitzgerald,
Director, Division of Trade Adjustment Assistance.

Appendix
[TAA petitions instituted between 9/22/08 and 9/26/08]
TA-W | Subject firm (petitioners) | Location | Date of institution | Date of petition
64086 | Talbot, Inc. (Wkrs) | Portland, OR | 09/22/08 | 09/19/08
64087 | Affymetrix (Wkrs) | West Sacramento, CA | 09/22/08 | 09/18/08
64088 | Rexam Closures Systems, Inc. (Comp) | Bowling Green, OH | 09/22/08 | 09/15/08
64089 | Bill Sills Sportswear (Comp) | Lexington, TN | 09/22/08 | 09/17/08
64090 | Yuhshin USA Limited dba Ortech (Comp) | Kirksville, MO | 09/22/08 | 09/19/08
64091 | All-Luminum dba Rio Brands (Comp) | Philadelphia, PA | 09/22/08 | 09/18/08
64092 | Standard Motor Products (Comp) | Edwardsville, KS | 09/22/08 | 09/19/08
64093 | Seamless Sensations, Inc. (Comp) | Chester, SC | 09/22/08 | 09/19/08
64094 | ASMO North Carolina, Inc. (Wkrs) | Statesville, NC | 09/23/08 | 09/22/08
64095 | Liberty Hardware (Wkrs) | Randolph, NJ | 09/23/08 | 09/11/08
64096 | Hickory Hardware (Comp) | Nashville, TN | 09/23/08 | 09/22/08
64097 | EcoWater Systems (State) | Woodbury, MN | 09/23/08 | 09/22/08
64098 | Excello Engineered Systems (Wkrs) | Macedonia, OH | 09/23/08 | 09/16/08
64099 | Performance Fibers (Comp) | New Hill, NC | 09/23/08 | 09/22/08
64100 | Amweld Building Products a Division of Ark II Mfg. (Wkrs) | Stow, OH | 09/24/08 | 09/22/08
64101 | Eagle Cap Campers (Comp) | La Grande, OR | 09/24/08 | 09/23/08
64102 | Wellman, Inc.—Palmetto Plant (Comp) | Darlington, SC | 09/24/08 | 09/23/08
64103 | Entegris, Inc. (Comp) | San Diego, CA | 09/24/08 | 09/18/08
64104 | Joseph Abboud Mfg. Corp (Comp) | New Bedford, MA | 09/24/08 | 09/22/08
64105 | Nana Management Services (NMS) (Comp) | Anchorage, AK | 09/24/08 | 09/23/08
64106 | Kurz-Kasch, Inc. (Comp) | South Boston, VA | 09/25/08 | 09/23/08
64107 | Dillards Department Stores (Wkrs) | Little Rock, AR | 09/25/08 | 09/24/08
64108 | American Fibers and Yarns Company (Comp) | Chapel Hill, NC | 09/25/08 | 09/24/08
64109 | Greystone of Lincoln, Inc. (State) | Lincoln, RI | 09/25/08 | 08/29/08
64110 | United Auto Workers (UAW) Local #110 (UAW) | Fenton, MO | 09/25/08 | 09/24/08
64111 | Drivesol Worldwide, Inc. (Comp) | Kendallville, IN | 09/25/08 | 09/23/08
64112 | Dixie Wire (AFL-CIO) | Nashville, TN | 09/25/08 | 09/24/08
64113 | Capel, Inc. (Wkrs) | Troy, NC | 09/25/08 | 09/11/08
64114 | Advanced Energy Industries, Inc. (Comp) | Fort Collins, CO | 09/25/08 | 09/24/08
64115 | Alcoa, Inc. (Payroll Dept.) (Wkrs) | Pittsburgh, PA | 09/26/08 | 09/19/08
64116 | Woodgrain Millwork, Inc. (Comp) | Fruitland, ID | 09/26/08 | 09/18/08
64117 | Clariant Corporation (Comp) | Coventry, RI | 09/26/08 | 09/24/08
64118 | Lincoln Brass Works (Mueller Gas Products) (AFL-CIO) | Jacksboro, TN | 09/26/08 | 09/25/08
64119 | Textech, Inc. (Wkrs) | Brattleboro, VT | 09/26/08 | 08/25/08
64120 | Columbia Falls Aluminum Company, LLC (Comp) | Columbia Falls, MT | 09/26/08 | 09/25/08
64121 | GE Consumer & Indus. Lighting Euclid Specialty Plt (IUECWA) | Cleveland, OH | 09/26/08 | 09/25/08
64122 | Imation (Wkrs) | Camarillo, CA | 09/26/08 | 09/12/08
64123 | Reheis/General Chemical (Wkrs) | Berkeley Heights, NJ | 09/26/08 | 09/24/08

[FR Doc. E8-23849 Filed 10-7-08; 8:45 am]

BILLING CODE 4510-FN-P